FEDERAL MARITIME COMMISSION

Notice of Agreement Filed and Request for Public Comments

The Commission hereby gives notice of filing of the following agreement under the Shipping Act of 1984. The Commission is reviewing the agreement to assess whether it is likely, by reducing competition, to cause an unreasonable reduction in transportation service or an unreasonable increase in transportation cost or to substantially lessen competition in the purchasing certain services. See 46 U.S.C. 41307(b). The Commission is also reviewing the agreement to ensure that it complies with restrictions on ocean common carriers imposed by 46 U.S.C. 41105, other Shipping Act provisions, and the Commission's regulations.

This agreement is an alliance between three major container shipping companies that call at ports in the United States: HMM Co., Ltd.; Ocean Network Express Pte. Ltd.; and Yang Ming Joint Service Agreement. It authorizes the Parties to share vessels, charter or exchange vessel space, discuss and agree on the size, number and operational characteristics of vessels operated under the agreement, and engage in related activities. For a complete recitation of discussions and activities the Parties are authorized to conduct under this agreement, please review the agreement which is available in its entirety on the Commission's website (www.fmc.gov) or by contacting the Office of Agreements at (202)-523-5793 or tradeanalysis@fmc.gov.

Interested parties may submit comments, relevant information, or documents regarding the agreement to the Secretary by email at Secretary@fmc.gov, or by mail, Federal Maritime Commission, 800 North Capitol Street, Washington, DC 20573. Comments will be most helpful to the Commission if received within 15 days of the date this notice appears in the Federal Register. Comments submitted are confidential and not subject to public disclosure.

Agreement No.: 201435.

Agreement Name: Premier Alliance Agreement.

Parties: HMM Co., Ltd.; Ocean Network Express Pte. Ltd.; Yang Ming Joint Service Agreement, FMC No. 201392.

Filing Party: Joshua Stein, Cozen O'Connor.

Parties' Synopsis: The Agreement would authorize the parties to charter and exchange space on one another's vessels and to coordinate and cooperate with respect to the Parties' transportation services in the trades between Asia, the Middle East, Europe, Central America, the Caribbean and the United States.

Proposed Effective Date: 12/12/2024.

Location: https://www2.fmc.gov/FMC.Agreements.Web/Public/AgreementHistory/86578.

Dated: November 1, 2024.
Alanna Beck,
Federal Register Alternate Liaison Officer.

[FR Doc. 2024-25819 Filed 11-5-24; 8:45 am]

BILLING CODE 6730-02-P